MILLENNIUM CHALLENGE CORPORATION

[MCC FR 22-05]

Notice of Open Meeting

AGENCY: Millennium Challenge Corporation.

ACTION: Notice.

SUMMARY: In accordance with the requirements of the Federal Advisory Committee Act, the Millennium Challenge Corporation (MCC) Advisory Council was established as a discretionary advisory committee on July 14, 2016. Its charter was renewed for a second term on July 11, 2018 and third term on July 8, 2020. The MCC Advisory Council serves MCC solely in an advisory capacity and provides insight regarding innovations in infrastructure, technology and sustainability; perceived risks and opportunities in MCC partner countries; new financing mechanisms for developing country contexts; and shared value approaches. The MCC Advisory Council provides a platform for systematic engagement with the private sector and other external stakeholders and contributes to MCC's mission—to reduce poverty through sustainable, economic growth.

DATES: Thursday, April 21, 2022 from 10:00 a.m.-12:00 p.m. EDT.

ADDRESSES: The meeting will be held in-person and via conference call.

FOR FURTHER INFORMATION CONTACT: Contact Bahgi Berhane, 202-521-3600, or email MCCAdvisoryCouncil@mcc.gov or visit https://www.mcc.gov/about/org-unit/advisory-council.

SUPPLEMENTARY INFORMATION: Agenda. During the Spring 2022 meeting of the MCC Advisory Council, Co-Chairs will meet with MCC leadership. Additionally, Council members will provide advice on the compact program development process and MCC's investment strategy in Sierra Leone.

Public Participation. The meeting will be open to the public. Members of the public may file written statement(s) before or after the meeting. If you plan to attend, please submit your name and affiliation no later than Monday, April 18, 2022 to MCCAdvisoryCouncil@mcc.gov, to receive instructions on how to attend.

Authority: Federal Advisory Committee Act, 5 U.S.C. App.

Dated: March 25, 2022.
Thomas G. Hohenthaner,
Acting VP/General Counsel and Corporate Secretary.

[FR Doc. 2022-06711 Filed 3-29-22; 8:45 am]

BILLING CODE 9211-03-P